DEPARTMENT OF THE INTERIOR

Bureau of Land Management

[LLNVS00560.L58530000.ES0000] MO#4500063562

Notice of Realty Action: Recreation and Public Purposes Lease, Partial Change of Use of Public Lands in Clark County, NV

AGENCY: Bureau of Land Management, Interior.

ACTION: Notice of realty action.

SUMMARY: In accordance with the Recreation and Public Purposes (R&PP) Act, Clark County requests to change the use of a portion of a previously approved R&PP lease in Clark County, Nevada (N-51437). Clark County proposes to change the use of 5 acres of an R&PP lease from a tree farm to a public park.

DATES: Interested parties may submit written comments regarding the proposed change of use of the lands until October 3, 2014.

ADDRESSES: Send written comments to the BLM Las Vegas Field Office, 4701 N. Torrey Pines Drive, Las Vegas, NV 89130, or email: ddickey@blm.gov and kthorpe@blm.gov.

FOR FURTHER INFORMATION CONTACT: Dorothy Dickey, 702-515-5119, or ddickey@blm.gov, and Kerri-Anne Thorpe, 702-515-5196, or kthorpe@blm.gov. Persons who use a telecommunications device for the deaf (TDD) may call the Federal Information Relay Service (FIRS) at 1-800-877-8339 to contact Ms. Dickey or Ms. Thorpe during normal business hours. The FIRS is available 24 hours a day, 7 days a week, to leave a message or question for Ms. Dickey or Ms. Thorpe. You will receive a reply during normal business hours.

SUPPLEMENTARY INFORMATION: The change of use requested by Clark County is consistent with the BLM Las Vegas Resource Management Plan dated October 5, 1998, and is in the public interest. The original proposed R&PP lease for a civic multi-use facility was analyzed under Environmental Assessment (EA) NV-054-90-69 dated October 3, 1990. The lease was issued on August 21, 1991.

On August 11, 2000, Clark County requested to amend its lease and submitted a new plan of development for a demonstration garden park and tree farm. A Notice of Realty Action was issued on November 21, 2000 and published on December 4, 2000, (65 FR 75732) segregating 52.5 acres for use as a park and 10 acres for use as a tree farm under the R&PP Act. Clark County has now requested to change the use of 5 acres from a tree farm to a park. The parcel of land is located on the corner of Flamingo Road and Buffalo Drive in Las Vegas, Nevada, and is legally described as:

Mount Diablo Meridian, Nevada

T. 21 S., R. 60 E.,

Sec. 15, E½SE¼NW¼SW¼.

The change of use area described contains 5 acres in Clark County.

The proposed change of use area as a park will consist of a general park area with related facilities, such as parking lots, walkways, lighting, landscaping, drainage, irrigation, restrooms, and park amenities. Information pertaining to this application, plan of development, site plan, and environmental review documentation can be reviewed at the BLM, Las Vegas Field Office.

The lands are not required for any other Federal purpose. The change of use of 5 acres from a tree farm to a park is consistent with the BLM Las Vegas Resource Management Plan dated October 5, 1998, and is in the public interest. Clark County, a qualified applicant under the R&PP Act, has not applied for more than the 6,400-acre limitation consistent with the regulation at 43 CFR 2741.7(a)(1), and has submitted a statement in compliance with the regulation at 43 CFR 2741.4(b).

Interested parties may submit written comments on the suitability of the land for use as a park. Interested parties may also submit written comments regarding the specific use proposed in the application and plan of development, and whether the BLM followed proper administrative procedures in reaching the decision to change the use to a park under the R&PP Act, or any other factor not directly related to the suitability of the land for R&PP use.

Before including your address, phone number, email address, or other personal identifying information in your comment, you should be aware that your entire comment—including your personal identifying information—may be made publicly available at any time. While you can ask us in your comment to withhold your personal identifying information from public review, we cannot guarantee that we will be able to do so.

Any adverse comments will be reviewed by the BLM Nevada State Director or other authorized official of the Department of the Interior, who may sustain, vacate, or modify this realty action. In the absence of any adverse comments, the decision will become effective on October 20, 2014. The lands will not be available for use as a public park until after the decision becomes effective.

Authority: 43 CFR 2741.5(h).

Vanessa L. Hice,
Assistant Field Manager, Las Vegas Field Office.

[FR Doc. 2014-19611 Filed 8-18-14; 8:45 am]

BILLING CODE 4310-HC-P